PEACE CORPS

Information Collection Request; Submission for OMB Review

AGENCY: Peace Corps.

ACTION: 60-Day notice and request for comments.

SUMMARY: The Peace Corps will be submitting the following information collection request to the Office of Management and Budget (OMB) for review and approval. The purpose of this notice is to allow 60 days for public comment in the Federal Register preceding submission to OMB. We are conducting this process in accordance with the Paperwork Reduction Act of 1995.

DATES: Submit comments on or before October 19, 2020.

ADDRESSES: Comments should be addressed to Virginia Burke, FOIA/Privacy Act Officer. Virginia Burke can be contacted by email at pcfr@peacecorps.gov. Email comments must be made in text and not in attachments.

FOR FURTHER INFORMATION CONTACT: Virginia Burke at the Peace Corps address above.

SUPPLEMENTARY INFORMATION:

Title: Onboarding Portal for Peace Corps Volunteer Applicants.

OMB Control Number: 0420-0563.

Type of Request: Revision.

Affected Public: Individuals.

Form Number: PC-2174.

Respondents Obligation to Reply: Voluntary.

Respondents: Individuals.

Burden to the Public:

Estimated burden (hours) of the collection of information:

a. Number of respondents: 5000.

b. Frequency of response: one time.

c. Completion time: 60 minutes.

d. Annual burden hours: 5000 hours.

General Description of Collection: The Peace Corps uses the Onboarding Portal to collect essential administrative information from invitees for use during Peace Corps Volunteer service, including such information as first, middle and last name, birthdate, Social Security number, primary contact information, designated emergency contact names an contact information, legal history updates, direct deposit information associated with a bank account, student loan history, and life insurance designations. The information is used by the Peace Corps to establish specific services for invitees for the purposes of supporting the Peace Corps Volunteer during service.

Request for Comment: Peace Corps invites comments on whether the proposed collections of information are necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice is issued in Washington, DC, on August 14, 2020.
Virginia Burke,
FOIA/Privacy Act Officer, Management.

[FR Doc. 2020-18146 Filed 8-18-20; 8:45 am]

BILLING CODE 6051-01-P